ENVIRONMENTAL PROTECTION AGENCY

[FRL OP-OFA-129]

Environmental Impact Statements; Notice of Availability

Responsible Agency: Office of Federal Activities, General Information 202-564-5632 or https://www.epa.gov/nepa.

Weekly receipt of Environmental Impact Statements (EIS)

Filed May 24, 2024 10 a.m. EST Through June 3, 2024 10 a.m. EST

Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20240093, Draft, FHWA, GA, I-285 Top End Express Lanes, Comment Period Ends: 07/29/2024, Contact: Sabrina David 404-562-3630.

EIS No. 20240094, Final, FTA, WA, Operations and Maintenance Facility South Final Environmental Impact Statement, Review Period Ends: 07/08/2024, Contact: JUSTIN ZWEIFEL 206-257-2141.

EIS No. 20240095, Draft, USA, HI, Army Training Land Retention of State Lands at Kahuku Training Area, Kawailoa-Poamoho Training Area, and Makua Military Reservation Island of O'ahu, Comment Period Ends: 08/07/2024, Contact: Matthew Foster 808-656-6821.

EIS No. 20240096, Final, USFS, CA, Social and Ecological Resilience Across the Landscape 2.0 (SERAL 2.0), Review Period Ends: 07/08/2024, Contact: Benjamin Cossel 209-288-6261.

EIS No. 20240097, Final, NPS, MT, Yellowstone National Park Bison Management Plan, Review Period Ends: 07/08/2024, Contact: Morgan Warthin 406-404-5096.

EIS No. 20240098, Draft, USACE, MS, Pearl River Basin, Mississippi Federal Flood Risk Management Project, Comment Period Ends: 07/22/2024, Contact: Eric Williams 504-862-2862.

EIS No. 20240099, Draft, BLM, OR, Lakeview Draft Resource Management Plan and Draft Environmental Impact Statement, Comment Period Ends: 09/05/2024, Contact: Michael Collins 541-947-6012.

EIS No. 20240100, Final, BLM, ID, Lava Ridge Wind Project Final Environmental Impact Statement, Review Period Ends: 07/08/2024, Contact: Kasey Prestwich 208-732-7204.

Dated: June 3, 2024.
Nancy Abrams,
Associate Director, Office of Federal Activities.

[FR Doc. 2024-12535 Filed 6-6-24; 8:45 am]

BILLING CODE 6560-50-P